DEPARTMENT OF HEALTH AND HUMAN SERVICES

Notice of Public Meeting

AGENCY: Office of Global Affairs, OS, HHS.

ACTION: Public Meeting/Teleconference/Listening Session.

SUMMARY: The session will allow members of the public the opportunity to provide individual feedback on the recommendations included in the Report of the WHO's Consultative Expert Working Group on R&D Financing and Coordination (CEWG).

DATES: Meeting will be held on December 18, 2012 at 4 p.m. EST.

ADDRESSES: Meeting will be held at the Institute of Medicine of the National Academies and via teleconference: The Keck Center, 500 Fifth Street NW., Washington, DC, Phone: 202-334-2000.

To RSVP for the event, please visit the following web address: www.iom.edu/globalhealthresearch.

FOR FURTHER INFORMATION CONTACT: For more information, please contact Hannah Burris, Office of Global Affairs, U.S. Department of Health and Human Services. Email: hannah.burris@hhs.gov. Telephone (202) 260-1812.

SUPPLEMENTARY INFORMATION:

Status: The meeting will be open to the public.

Purpose: WHO Member States requested the establishment of the Consultative Expert Working Group on Research and Development: Financing and Coordination (CEWG) to find innovative solutions to address the unmet need for research and development for diseases affecting developing countries. The CEWG was established by the World Health Assembly in 2010 by resolution WHA63.28. In April of 2012, the CEWG issued their Report, which included a series of recommendations. At the World Health Assembly in May 2012, Member States passed Resolution 65.22 urging all countries to hold national-level consultations to consider the Report and its recommendations.

The Office of Global Affairs within HHS is the lead USG coordinating agency on the World Health Organization and its related work, including consideration of the recommendations put forward by the CEWG. This public meeting, co-hosted by HHS Office of Global Affairs and the Institute of Medicine, is intended to provide an opportunity for input on the CEWG recommendations more broadly. This public meeting will serve as the national-level consultation and is primarily a listening session, where individuals representing a personal viewpoint or that of their organization can provide input.

Agenda: The meeting/teleconference will be held on December 18th, 2012. The session will start with a short introduction on the recommendations and history of the CEWG. Members of the public will then be able to provide individual input on the recommendations of the CEWG.

Dated: November 16, 2012.
Jimmy Kolker,
Deputy Director, Office of Global Affairs.

[FR Doc. 2012-28782 Filed 11-27-12; 8:45 am]

BILLING CODE 4150-38-P